DEPARTMENT OF TRANSPORTATION

Federal Aviation Administration

14 CFR Part 39

[Docket No. FAA-2011-0652; Directorate Identifier 2010-NM-045-AD]

RIN 2120-AA64

Airworthiness Directives; The Boeing Company Model MD-90-30 Airplanes

AGENCY: Federal Aviation Administration (FAA), DOT.

ACTION: Notice of proposed rulemaking (NPRM).

SUMMARY: We propose to adopt a new airworthiness directive (AD) for all Model MD-90-30 airplanes. This proposed AD would require repetitive eddy current high frequency (ETHF) inspections for cracking on the aft side of the left and right wing rear spar lower caps at station Xrs = 164.000, further ETHF inspections if cracks are found, and repair if necessary. This proposed AD would also require repetitive post-repair inspections and repair if necessary. This proposed AD was prompted by reports of cracks of the wing rear spar lower cap at the outboard flap, inboard drive hinge at station Xrs = 164.000. We are proposing this AD to detect and correct cracking of the left and right rear spar lower caps, which could result in fuel leaks and damage to the wing skin or other structure, and consequent loss of the structural integrity of the wing.

DATES: We must receive comments on this proposed AD by August 22, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Roger Durbin, Airframe Branch, ANM-120L, FAA, Los Angeles Aircraft Certification Office (ACO), 3960 Paramount Boulevard, Lakewood, California 90712-4137; phone (562) 627-5233; fax (562) 627-5210; e-mail: roger.durbin@faa.gov.

SUPPLEMENTARY INFORMATION:

Comments Invited

We invite you to send any written relevant data, views, or arguments about this proposed AD. Send your comments to an address listed under the ADDRESSES section. Include “Docket No. FAA-2011-0652; Directorate Identifier 2010-NM-045-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of cracks of the wing rear spar lower cap at the outboard flap, inboard drive hinge at station Xrs = 164.000, on Model MD-80 airplanes. It has been determined that these cracks are the result of material fatigue from normal flap operating loads. This condition, if not corrected, could result in fuel leaks and damage to the wing skin or other structure, and consequent loss of the structural integrity of the wing.

The subject area on Model MD-90-30 airplanes is almost identical to that on Model MD-80 airplanes. Therefore, Model MD-90-30 airplanes may be subject to the unsafe condition revealed on Model MD-80 airplanes.

Relevant Service Information

We have reviewed Boeing Alert Service Bulletin MD90-57A026, Revision 1, dated February 23, 2011. This service bulletin describes procedures for repetitive eddy current high frequency (ETHF) inspections for cracks on the left and right rear spar lower caps at station Xrs=164.000, further ETHF inspections if cracks are found, optional and non-optional repairs, and repetitive post-repair inspections.

FAA's Determination

We are proposing this AD because we evaluated all relevant information and determined the unsafe condition described previously is likely to exist or develop in other products of the same type design.

Proposed AD Requirements

This proposed AD would require accomplishing the actions specified in the service information described previously, except as discussed under “Differences Between the Proposed AD and the Service Information.”

Differences Between the Proposed AD and the Service Information

Boeing Alert Service Bulletin MD90-57A026, Revision 1, dated February 23, 2011, does not specify corrective actions if cracking is found during any inspection of repaired areas, but this proposed AD would require repairing those conditions in one of the following ways:

• In accordance with a method that we approve; or

• Using data that meet the certification basis of the airplane, and that have been approved by the Boeing Commercial Airplanes Organization Designation Authorization (ODA) whom we have authorized to make those findings.

Costs of Compliance

We estimate that this proposed AD would affect 17 airplanes of U.S. registry.

We estimate the following costs to comply with this proposed AD:

Estimated Costs
Action | Labor cost | Parts cost | Cost per product | Cost on U.S. operators
Inspection | 4 work-hours × $85 per hour = $340 per inspection cycle | N/A | $340 per inspection cycle | $5,780 per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2011-0652; Directorate Identifier 2010-NM-045-AD.

Comments Due Date

(a) We must receive comments by August 22, 2011.

Affected ADs

(b) None.

Applicability

(c) This AD applies to all The Boeing Company Model MD-90-30 airplanes, certificated in any category.

Subject

(d) Air Transport Association (ATA) of America Code 57: Wings.

Unsafe Condition

(e) This AD was prompted by reports of cracks of the wing rear spar lower cap at the outboard flap, inboard drive hinge at station Xrs = 164.000. We are issuing this AD to detect and correct cracking of the left and right rear spar lower caps, which could result in fuel leaks and damage to the wing skin or other structure, and consequent loss of the structural integrity of the wing.

Compliance

(f) You are responsible for having the actions required by this AD performed within the compliance times specified, unless the actions have already been done.

Repetitive Inspections, Further Inspections if Cracking Found, Repair, and Repetitive Post-Repair Inspections

(g) Before the accumulation of 30,000 total flight cycles, or within 10,000 flight cycles after the effective date of this AD, whichever occurs later, do an eddy current high frequency (ETHF) inspection for cracking on the aft side of the left and right wing rear spar lower caps at station Xrs = 164.000, in accordance with the Accomplishment Instructions of Boeing Alert Service Bulletin MD90-57A026, Revision 1, dated February 23, 2011. If no cracking is found on the left or right wing rear spar lower cap, repeat the inspection on the affected wing rear spar lower cap thereafter at intervals not to exceed 2,550 flight cycles. Doing a repair of the left or right wing rear spar lower cap required by this AD terminates the repetitive inspection required by this paragraph for that side only.

(h) If, during any inspection required by paragraph (g) of this AD, any crack is found that is two inches or less and not in the rear spar lower cap forward horizontal leg radius: Before further flight, do an ETHF inspection for cracking on the affected wing rear spar upper cap at station Xrs = 164.000, in accordance with the Accomplishment Instructions of Boeing Alert Service Bulletin MD90-57A026, Revision 1, dated February 23, 2011.

(1) If no crack is found in the rear spar upper cap during the inspection required in paragraph (h) of this AD, do the actions specified in paragraph (h)(1)(i) or (h)(1)(ii) of this AD.

(i) Option 1: Before further flight, do a doubler repair of the rear spar lower cap, in accordance with the Accomplishment Instructions of Boeing Alert Service Bulletin MD90-57A026, Revision 1, dated February 23, 2011. Within 13,500 flight cycles after doing the doubler repair, do an ETHF inspection for any cracking in the repaired area of the rear spar lower cap, in accordance with the Accomplishment Instructions of Boeing Alert Service Bulletin MD90-57A026, Revision 1, dated February 23, 2011. Repeat the inspection thereafter at intervals not to exceed 8,500 flight cycles. If any cracking is found during any inspection required by this paragraph, before further flight, repair in accordance with a method approved in accordance with the procedures specified in paragraph (k) of this AD.

(ii) Option 2: Before further flight, do a splice repair of the rear spar lower cap, in accordance with the Accomplishment Instructions of Boeing Alert Service Bulletin MD90-57A026, Revision 1, dated February 23, 2011. Within 20,000 flight cycles after doing the splice repair, do an eddy current low frequency (ETLF) inspection and an ultrasonic (UT) inspection for cracking in the repaired area of the rear spar lower cap, in accordance with the Accomplishment Instructions of Boeing Alert Service Bulletin MD90-57A026, Revision 1, dated February 23, 2011. Repeat the inspections thereafter at intervals not to exceed 3,000 flight cycles. If any cracking is found during any inspection required by this paragraph, before further flight, repair in accordance with a method approved in accordance with the procedures specified in paragraph (k) of this AD.

(2) If any crack that is two inches or less is found in the rear spar upper cap during the inspection required by paragraph (h) of this AD, do the actions specified in paragraph (h)(2)(i) or (h)(2)(ii) of this AD.

(i) Option 1: Before further flight, do a doubler repair of the rear spar upper and lower caps, in accordance with the Accomplishment Instructions of Boeing Alert Service Bulletin MD90-57A026, Revision 1, dated February 23, 2011. Within 13,500 flight cycles after doing the doubler repair, do an ETHF inspection for any cracking in the repaired area of the rear spar upper and lower caps, in accordance with the Accomplishment Instructions of Boeing Alert Service Bulletin MD90-57A026, Revision 1, dated February 23, 2011. Repeat the inspection thereafter at intervals not to exceed 8,500 flight cycles. If any cracking is found during any inspection required by this paragraph, before further flight, repair in accordance with a method approved in accordance with the procedures specified in paragraph (k) of this AD.

(ii) Option 2: Before further flight, do a splice repair of the rear spar upper and lower caps, in accordance with the Accomplishment Instructions of Boeing Alert Service Bulletin MD90-57A026, Revision 1, dated February 23, 2011. Within 20,000 flight cycles after doing the splice repair, do an ETLF inspection and a UT inspection for any cracking in the repaired area of the rear spar lower cap, in accordance with the Accomplishment Instructions of Boeing Alert Service Bulletin MD90-57A026, Revision 1, dated February 23, 2011. Repeat the inspections thereafter at intervals not to exceed 3,000 flight cycles. If any cracking is found during any inspection required by this paragraph, before further flight, repair in accordance with a method approved in accordance with the procedures specified in paragraph (k) of this AD.

(3) If any crack that is greater than two inches is found in the rear spar upper cap during the inspection required by paragraph (h) of this AD, do the actions specified in paragraph (h)(3)(i) or (h)(3)(ii) of this AD.

(i) Option 1: Before further flight, do a splice repair of the rear spar upper cap and a doubler repair of the rear spar lower cap, in accordance with the Accomplishment Instructions of Boeing Alert Service Bulletin MD90-57A026, Revision 1, dated February 23, 2011. Within 13,500 flight cycles after doing the doubler repair, do an ETHF inspection for any cracking in the repaired area of the rear spar lower cap, in accordance with the Accomplishment Instructions of Boeing Alert Service Bulletin MD90-57A026, Revision 1, dated February 23, 2011. Repeat the inspection thereafter at intervals not to exceed 8,500 flight cycles. If any cracking is found during any inspection required by this paragraph, before further flight, repair in accordance with a method approved in accordance with the procedures specified in paragraph (k) of this AD.

(ii) Option 2: Before further flight, do a splice repair of the rear spar upper and lower caps, in accordance with the Accomplishment Instructions of Boeing Alert Service Bulletin MD90-57A026, Revision 1, dated February 23, 2011. Within 20,000 flight cycles after doing the splice repair, do an ETLF inspection and a UT inspection for any cracking in the repaired area of the rear spar lower cap, in accordance with the Accomplishment Instructions of Boeing Alert Service Bulletin MD90-57A026, Revision 1, dated February 23, 2011. Repeat the inspections thereafter at intervals not to exceed 3,000 flight cycles. If any cracking is found during any inspection required by this paragraph, before further flight, repair in accordance with a method approved in accordance with the procedures specified in paragraph (k) of this AD.

(i) If any crack is found during any inspection required by paragraph (g) of this AD that is greater than two inches or is in the rear spar lower cap forward horizontal leg radius, before further flight, do an ETHF for cracking on the affected wing rear spar upper cap at station Xrs = 164.000, in accordance with the Accomplishment Instructions of Boeing Alert Service Bulletin MD90-57A026, Revision 1, dated February 23, 2011.

(1) If no crack is found in the rear spar upper cap, before further flight, do a splice repair of the rear spar lower cap, in accordance with the Accomplishment Instructions of Boeing Alert Service Bulletin MD90-57A026, Revision 1, dated February 23, 2011. Within 20,000 flight cycles after doing the splice repair, do an ETLF and a UT inspection for any cracking of the repaired area of the lower rear spar cap, in accordance with the Accomplishment Instructions of Boeing Alert Service Bulletin MD90-57A026, Revision 1, dated February 23, 2011. Repeat the inspection thereafter at intervals not to exceed 3,000 flight cycles. If any cracking is found during any inspection required by this paragraph, before further flight, repair in accordance with a method approved in accordance with the procedures specified in paragraph (k) of this AD.

(2) If any crack that is two inches or less is found in the rear spar upper cap, do the actions specified in paragraph (i)(2)(i) or (i)(2)(ii) of this AD.

(i) Option 1: Do the actions specified in paragraphs (i)(2)(i)(A), (i)(2)(i)(B), and (i)(2)(i)(C) of this AD.

(A) Before further flight, do a doubler repair of the rear spar upper cap and a splice repair of the rear spar lower cap, in accordance with the Accomplishment Instructions of Boeing Alert Service Bulletin MD90-57A026, Revision 1, dated February 23, 2011.

(B) Within 13,500 flight cycles after doing the doubler repair required by paragraph (i)(2)(i)(A) of this AD, do an ETHF inspection for any cracking in the repaired area of the rear spar upper cap, in accordance with the Accomplishment Instructions of Boeing Alert Service Bulletin MD90-57A026, Revision 1, dated February 23, 2011. Repeat the inspection thereafter at intervals not to exceed 8,500 flight cycles. If any cracking is found during any inspection required by this paragraph, before further flight, repair in accordance with a method approved in accordance with the procedures specified in paragraph (k) of this AD.

(C) Within 20,000 flight cycles after doing the splice repair required by paragraph (i)(2)(i)(A) of this AD, do an ETLF and a UT inspection for cracking in the repaired area of the rear spar lower cap, in accordance with the Accomplishment Instructions of Boeing Alert Service Bulletin MD90-57A026, Revision 1, dated February 23, 2011. Repeat the inspections thereafter at intervals not to exceed 3,000 flight cycles. If any cracking is found during any inspection required by this paragraph, before further flight, repair in accordance with a method approved in accordance with the procedures specified in paragraph (k) of this AD.

(ii) Option 2: Before further flight, do a splice repair of the rear spar upper and lower caps, in accordance with the Accomplishment Instructions of Boeing Alert Service Bulletin MD90-57A026, Revision 1, dated February 23, 2011. Within 20,000 flight cycles after doing the splice repair, do an ETLF and a UT inspection for cracking in the repaired area of the rear spar lower cap, in accordance with the Accomplishment Instructions of Boeing Alert Service Bulletin MD90-57A026, Revision 1, dated February 23, 2011. Repeat the inspections thereafter at intervals not to exceed 3,000 flight cycles. If any cracking is found during any inspection required by this paragraph, before further flight, repair in accordance with a method approved in accordance with the procedures specified in paragraph (k) of this AD.

(3) If any crack that is greater than two inches is found in the rear spar upper cap, before further flight, do a splice repair of the rear spar upper and lower caps, in accordance with the Accomplishment Instructions of Boeing Alert Service Bulletin MD90-57A026, Revision 1, dated February 23, 2011. Within 20,000 flight cycles after doing the splice repair, do an ETLF and a UT inspection for cracking in the repaired area of the rear spar lower cap, in accordance with the Accomplishment Instructions of Boeing Alert Service Bulletin MD90-57A026, Revision 1, dated February 23, 2011. Repeat the inspections thereafter at intervals not to exceed 3,000 flight cycles. If any cracking is found during any inspection required by this paragraph, before further flight, repair in accordance with a method approved in accordance with the procedures specified in paragraph (k) of this AD.

Credit for Actions Accomplished in Accordance With Previous Service Information

(j) Doing an ETHF inspection for cracks, and doing a doubler repair to the rear spar upper and lower caps in accordance with Boeing Alert Service Bulletin MD90-57A026, dated February 11, 2010, before the effective date of this AD, are acceptable for compliance with the corresponding actions required by paragraphs (g), (h), and (i) of this AD.

Alternative Methods of Compliance (AMOCs)

(k)(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane and 14 CFR 25.571, Amendment 45, and the approval must specifically refer to this AD.

Related Information

(l) For more information about this AD, contact Roger Durbin, Airframe Branch, ANM-120L, FAA, Los Angeles ACO, 3960 Paramount Boulevard, Lakewood, California 90712-4137; phone: (562) 627-5233; fax: (562) 627-5210; e-mail: roger.durbin@faa.gov.

(m) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Issued in Renton, Washington, on June 29, 2011.
Jeffrey E. Duven,
Acting Manager, Transport Airplane Directorate, Aircraft Certification Service.

[FR Doc. 2011-17267 Filed 7-7-11; 8:45 am]

BILLING CODE 4910-13-P